DEPARTMENT OF THE INTERIOR

National Park Service

60-Day Notice of Intention To Request Clearance of Collection of Information; Opportunity for Public Comment

AGENCY: National Park Service, Department of the Interior.

ACTION: Notice and request for comments.

SUMMARY: Under the provisions of the Paperwork Reduction Act of 1995 and 5 CFR Part 1320, Reporting and Record Keeping Requirements, the National Park Service (NPS) invites public comments on an extension of a currently approved information collection Office of Management and Budget (OMB) #1024-0236.

DATES: Public comments on this Information Collection Request (ICR) will be accepted on or before September 20, 2010.

ADDRESSES: Send comments to: Dr. John G. Dennis, Natural Resources (Room 1160), NPS, 1201 Eye Street, NW., Washington, DC 20005; Phone: 202-513-7174; fax: 202-371-2131; e-mail WASO_NRSS_researchcoll@nps.gov. All responses to this notice will be summarized and included in the request for the Office of Management and Budget (OMB) approval. All comments will become a matter of public record.

FOR FURTHER INFORMATION CONTACT: Bill Commins, Natural Resources (Room 1125), 1201 Eye St., NW., Washington, DC 20005. Phone 202-513-7166; Fax: 202-371-2131; E-mail: bill_commins@nps.gov. You may obtain additional information about the application and manual reporting forms and existing guidance and explanatory material from the NPS Research Permit and Reporting System Web site at: https://science.nature.nps.gov/research.

SUPPLEMENTARY INFORMATION:

Title: Research Permit and Reporting System Collection of Information Package: Application for a Scientific Research and Collecting Permit: Application for a Science Education Permit; Investigator's Annual Report.

Form(s): Application for a Scientific Research and Collecting Permit: 10-741a; Application for a Science Education Permit: 10-741b, Investigator's Annual Report: 10-226.

OMB Control Number: 1024-0236.

Expiration Date: 11/30/2010.

Type of Request: Extension of a currently approved collection of information.

Description of Need: The currently approved information collection responds to the statutory requirement that NPS preserve park resources and regulate the use of units of the National Park System. The information currently collected identifies: (1) Names and business contact information for people who seek a permit to conduct natural or social science research and collection activities in individual units of the National Park System, (2) what activities they wish to conduct, (3) where they wish to conduct the activities, (4) whether or not they wish to collect specimens as part of the activities they propose to conduct, and (5) for applicants who have received a permit, annual summaries of the actual results of their permitted activities. NPS uses the collected information for managing the use and preservation of park resources and for reporting the status of permitted research and collecting activities. The automated information collection and status reporting system for which the renewal of three components of a single collection of information package is being proposed in this notice currently is available to applicants, permittees, and the public through the NPS Research Permit and Reporting System Web site (https://science.nature.nps.gov/research). In addition to considering the renewal of the three information collection forms without substantive changes, NPS is considering what development of modifications to the Internet site, if any, are needed to increase the effectiveness and efficiency of this automation system to facilitate the permit application and progress reporting processes.

Description of respondents: Representatives of academic and other research institutions, Federal, state, or local agencies, research businesses, other scientific parties seeking an NPS research and collecting or science education permit; permittees who submit the annual report of accomplishment that is one of the permit conditions.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: July 16, 2010.
Cartina Miller,
NPS, Information Collection Clearance Officer.

[FR Doc. 2010-17823 Filed 7-20-10; 8:45 am]

BILLING CODE 4312-52-P